NUCLEAR REGULATORY COMMISSION

Public Meeting on Standard Review Plan

AGENCY: Nuclear Regulatory Commission (NRC).

ACTION: Notice of meeting.

SUMMARY: NRC will host a public meeting in Rockville, Maryland. The meeting will provide an opportunity for discussion on the revised draft Chapter 3 entitled, “Integrated Safety Analysis” of NUREG-1520 for 10 CFR part 70, Standard Review Plan (SRP) for the Review of a License Application for a Fuel Cycle Facility. The March 30, 2001, draft Chapter 3 can be found in both a “clean” and marked-up version in the NRC Public Electronic Reading Room under “Recently Released Documents, April 3, 2001”. It can also be found on the Internet at the following website:

http://techconf.llnl.gov/cgi-bin/library?source=*&library=Part_70_lib

The web site can also be reached by the following method:

1. Go to the main NRC web site at: http://www.nrc.gov.

2. Scroll down to the bottom of that page and click on the word “Rulemaking.”

3. Scroll down on the Rulemaking page until the words “Technical Conference” appear. Click on those words.

4. On the page titled “Welcome to the NRC Technical Conference Forum,” click on the link “Conference” or “Technical Conferences”.

5. Scroll down to the topic “Draft Standard Review Plan and Guidance on Amendment to 10 CFR Part 70.”

6. Select “Document Library.”

Purpose: This meeting will provide an opportunity to discuss comments on the staff's revised draft Chapter 3 and its appendix.

DATES: The meeting is scheduled for Tuesday, May 8, 2001, from 1:00 p.m. to 4:00 p.m. The meeting is open to the public.

ADDRESSES: Two White Flint North, 11545 Rockville Pike, Room T-10A1, Rockville, Maryland. Visitor parking around the NRC building is limited; however, the meeting site is located adjacent to the White Flint Station on the Metro Red Line.

FOR FURTHER INFORMATION CONTACT: Yawar H. Faraz, Senior Project Manager, Fuel Cycle Licensing Branch, Division of Fuel Cycle Safety and Safeguards, Office of Nuclear Material Safety and Safeguards, U.S. Nuclear Regulatory Commission, Washington, DC 20555, telephone: (301) 415-8113, e-mail yhf@nrc.gov.

Dated at Rockville, Maryland this 9th day of April, 2001.
For the Nuclear Regulatory Commission.
Lidia Roché,
Acting Chief, Fuel Cycle Licensing Branch, Division of Fuel Cycle Safety and Safeguards, Office of Nuclear Material Safety and Safeguards.

[FR Doc. 01-9319 Filed 4-13-01; 8:45 am]

BILLING CODE 7590-01-P